DEPARTMENT OF DEFENSE

Department of the Army

Army Education Advisory Committee Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR) 102-3. 140 through 160, the Department of the Army announces the following committee meeting:

Name of Committee: Army Education Advisory Committee.

Date of Meeting: September 17, 2008.

Time of Meeting: 0830-1500, September 17, 2008.

Place of Meeting: Cadet Command Headquarters, 55 Pratt Road, Building 56, Commander's Conference Room, Ft Monroe, VA.

Interested persons may submit a written statement for consideration by the Army Education Advisory Committee. Individuals submitting a written statement must submit their statement to the Designated Federal Official at the address detailed below, at any point, however, if a written statement is not received at least 10 calendar days prior to the meeting, which is the subject of this notice, then it may not be provided to or considered by the Army Education Advisory Committee. The Designated Federal Official will review all timely submissions with the Army Education Advisory Committee Chairperson, and ensure they are provided to members of the Army Education Advisory Committee before the meeting that is the subject of this notice.

FOR FURTHER INFORMATION CONTACT: For information please contact Mr. Wayne Joyner at albert.wayne.joyner@us.army.mil or (757) 788-5890.

SUPPLEMENTARY INFORMATION: Proposed Agenda: The Army Education Advisory Committee will meet on September 17, 2008, Cadet Command Headquarters, Building 56, Ft Monroe, VA. Purpose of the meeting is to allow review, discussions, and deliberations of actions and recommendations from five subcommittees: Defense Language Institute Foreign Language Center, Command and General Staff College Board of Visitors, Army War College Board of Visitors, Distance Learning/Training Technology Applications Subcommittee, and the Reserve Officer Training Corps Subcommittee. Approved recommendations will be forwarded to the Office of the Administrative Assistant, Secretary of the Army, the appropriate Subcommittee's Alternate Designated Federal Official (ADFO), and the Subcommittee's decision maker.

Brenda S. Bowen,
Army Federal Register Liaison Officer.

[FR Doc. E8-19486 Filed 8-21-08; 8:45 am]

BILLING CODE 3710-08-P